DEPARTMENT OF ENERGY

Federal Energy Regulatory Commission

Notice of Application for Amendment of License and Soliciting Comments, Motions To Intervene, and Protests

May 13, 2004.

Take notice that the following application has been filed with the Commission and is available for public inspection:

a. Application Type: Pulse flow protocol plan.

b. Project No.: 2188-097.

c. Date Filed: March 19, 2004.

d. Applicant: PPL Montana, Montana.

e. Name of Project: Missouri-Madison Project.

f. Location: The project is located on the Madison and Missouri Rivers in Gallatin, Madison, Lewis and Clark, and Cascade Counties, in southwestern Montana.

g. Filed Pursuant to: Federal Power Act, 16 U.S.C. 791a-825r.

h. Applicant Contact: John VanDaveer, PPL Montana LLC, 45 Basin Creek Road, Butte, MT 59701-9704.

i. FERC Contact: Any questions on this notice should be addressed to Mr. Eric Gross at (202) 502-6213, or e-mail address: eric.gross@ferc.gov.

j. Deadline for Filing Comments and or Motions: June 14, 2004.

k. Description of Request: PPL Montana has filed for Commission approval of Pulse Flow Protocol Plan (PFPP) in accordance with Article 413 of the project license. Article 413 required the licensee to submit a pulse flow monitoring plan, by which the project would be operated and monitored for three years. The original plan was approved by order on December 7, 2001. The licensee has completed the required three years of monitoring and has now submitted the PFPP, which calibrates their pulse flow predictor model with the three years of collected thermal data. The licensee proposes to continue to use the statistical predictor model to regulate pulse flows and collect thermal data, and file an updated PFPP with a recalibrated model every five years for the remainder of the license.

l. Locations of Applications: A copy of the application is available for inspection and reproduction at the Commission in the Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. E4-1187 Filed 5-20-04; 8:45 am]

BILLING CODE 6717-01-P